DEPARTMENT OF HEALTH AND HUMAN SERVICES

National Institutes of Health

National Heart, Lung, and Blood Institute; Cancellation of Meeting

Notice is hereby given of the cancellation of the National Asthma Education Prevention Program Coordinating Committee, September 23, 2024, 11:00 a.m. to September 23, 2024, 1:00 p.m., National Institutes of Health, 6100 Executive Boulevard, Rockville, MD 20852 which was published in the Federal Register on July 30, 2024, 89 FR 61131.

The meeting is being postponed to a later date. A new Federal Register Notice will be posted once a new date has been set.

Dated: September 13, 2024.
Bruce A. George,
Program Analyst, Office of Federal Advisory Committee Policy.

[FR Doc. 2024-21388 Filed 9-18-24; 8:45 am]

BILLING CODE 4140-01-P